ENVIRONMENTAL PROTECTION AGENCY

[FRL-9939-40-OAR]

Stratospheric Protection Division; Teleconference on the Clean Air Act Section 608 Technician Certification Program Test Bank

AGENCY: Environmental Protection Agency (EPA).

ACTION: Notice of Section 608 Technician Certification Program Test Bank teleconference.

SUMMARY: Notice is hereby given that the Stratospheric Protection Division will hold a public teleconference on December 9, 2015 on the Section 608 Technician Certification Test Bank. The teleconference will be an opportunity for stakeholders and members of the public to provide feedback on updating Test Bank questions. For further information regarding the teleconference, please contact Robert Burchard at the number and email below.

DATES: The Stratospheric Protection Division will hold a public teleconference on December 9, 2015 from 1 p.m. to 3 p.m. Eastern Standard Time.

SUPPLEMENTARY INFORMATION: Background: Under the authority of Section 608 of the Clean Air Act (CAA) of 1990, as amended, the Environmental Protection Agency (EPA) established a technician certification program for persons (“technicians”) who perform maintenance, service, repair, or disposal activities on appliances (with some enumerated exceptions) that could be reasonably expected to release refrigerants from those appliances into the atmosphere. This program was established in regulations at 40 CFR part 82, subpart F. Under these regulations, at 40 CFR 82.152, the definition of “technician” specifically includes activities as follows:

• Attaching and detaching hoses and gauges to and from the appliance to measure pressure within the appliance;

• adding refrigerant to or removing refrigerant from the appliance; and

• any other activity that is reasonably expected to violate the integrity of the refrigerant circuit.

The Agency has four types of certification:

• For servicing small appliances (Type I).

• For servicing or disposing of high- or very high-pressure appliances, except small appliances and motor vehicle air conditioning systems (Type II).

• For servicing or disposing of low-pressure appliances (Type III).

• For servicing all types of equipment (Universal).

Technicians are required to pass a test given by an EPA-approved certifying organization to become certified under the program. EPA requires that all test questions come from its Test Bank.

Purpose of Meeting: The teleconference will be an opportunity for stakeholders and members of the public to provide feedback on updating Test Bank questions.

General Information: The agenda and materials are posted at Eventbrite. Go to: https://www.eventbrite.com/e/test-bank-teleconference-tickets-19478479657. The event is: “Test Bank Teleconference,” Washingtonn DC, Wednesday December 9, 11:00 a.m.

Meeting Access: For information on access or services for individuals with disabilities, please contact Robert Burchard at (202) 343-9126 or email at burchard.robert@epa.gov.

Drusilla Hufford,
Director, Stratospheric Protection Division.

[FR Doc. 2015-30372 Filed 11-30-15; 8:45 am]

BILLING CODE 6560-50-P